DEPARTMENT OF LABOR

Employment and Training Administration

[TA-W-73,805]

Henkel Corporation, Currently Known as Henkel Electronic Materials, LLC, Electronic Adhesives Division, Including On-Site Leased Workers from Aerotek Professional Services, Billerica, MA; Amended Certification Regarding Eligibility To Apply for Worker Adjustment Assistance

In accordance with Section 223 of the Trade Act of 1974, as amended (“Act”), 19 U.S.C. 2273, the Department of Labor issued a Certification of Eligibility to Apply for Worker Adjustment Assistance on July 12, 2010, applicable to workers of Henkel Corporation, Electronic Adhesives Division, including on-site leased workers from Aerotek Professional Services, Billerica, Massachusetts. The notice was published in the Federal Register on August 2, 2010 (75 FR 45163).

At the request of the State agency, the Department reviewed the certification for workers of the subject firm. The workers supply new product development and other support functions related to the production of electrical materials.

Information shows that on January 1, 2011, Henkel Corporation created a new legal entity applicable to only the Canton, Massachusetts location to combine the legacy Henkel Electronic Materials business and The National Starch Electronic Materials business following a company purchase in April 2008. Workers separated from employment at the Billerica, Massachusetts location of Henkel Corporation, Electronic Adhesives Division had their wages reported under a separate unemployment insurance (UI) tax account under the name Henkel Electronic Materials, LLC.

Accordingly, the Department is amending this certification to properly reflect this matter.

The intent of the Department's certification is to include all workers of the subject firm who were adversely affected as a secondary service supplier directly to a TAA certified firm.

The amended notice applicable to TA-W-73,805 is hereby issued as follows:

All workers of Henkel Corporation, currently known as Henkel Electronic Materials, LLC, Electronic Adhesives, Division, including on-site leased workers from Aerotek Professional Services, Billerica, Massachusetts, who became totally or partially separated from employment on or after March 23, 2009 through July 12, 2012, and all workers in the group threatened with total or partial separation from employment on the date of certification through two years from the date of certification, are eligible to apply for adjustment assistance under Chapter 2 of Title II of the Trade Act of 1974, as amended.

Signed at Washington, DC this 5th day of October 2011.
Del Min Amy Chen,
Certifying Officer, Office of Trade Adjustment Assistance.

[FR Doc. 2011-27160 Filed 10-19-11; 8:45 am]

BILLING CODE 4510-FN-P